DEPARTMENT OF DEFENSE

Office of the Secretary

Memorandum of Understanding Between the U.S. Department of Defense and the U.S. Fish and Wildlife Service To Promote the Conservation of Migratory Birds

AGENCY: Department of Defense.

ACTION: Notice.

SUMMARY: This notice announces a public notice of the signing of a Memorandum of Understanding (MOU) between the U.S. Department of Defense and the U.S. Fish and Wildlife Service to Promote the Conservation of Migratory Birds. Pursuant to Executive Order 13186 (January 17, 2001), “Responsibilities of Federal Agencies to Protect Migratory Birds,” this MOU outlines a collaborative approach to promote the conservation of migratory bird populations. This MOU identifies specific activities where cooperation between the Parties will contribute substantially to the conservation of migratory birds and their habitats. It does not authorize the “take” of migratory birds. Take, as defined in 50 CFR 10.12, includes the pursuit, hunting, shooting, wounding, killing, trapping, capturing, collecting, or attempting to pursue, hunt, shoot, wound, kill, trap, capture, or collect.

The complete text of the MOU is attached.

Effective Dates: This notice is effective August 30, 2006. The MOU is effective July 31, 2006 and shall remain effective for a period of five years.

FOR FURTHER INFORMATION CONTACT: Peter Boice, 703-704-0524.

SUPPLEMENTARY INFORMATION: The notice is required by Section 3(g) of Executive Order 13186 which states “Each agency shall advise the public of the availability of its MOU through a notice published in the Federal Register.”

Dated: August 24, 2006.
L.M. Bynum,
OSD Federal Register Liaison Officer, DoD.

Memorandum of Understanding Between the U.S. Department of Defense and the U.S. Fish and Wildlife Service To Promote the Conservation of Migratory Birds

This Memorandum of Understanding (MOU) is entered into between the U.S. Department of Defense (DoD) and the U.S. Fish and Wildlife Service (FWS) (hereinafter “the Parties”).

A. Purpose and Scope

Pursuant to Executive Order 13186 (January 17, 2001), Responsibilities of Federal Agencies to Protect Migratory Birds, this MOU outlines a collaborative approach to promote the conservation of migratory bird populations.

This MOU does not address incidental take during military readiness activities, which is being addressed in a rulemaking in accordance with section 315 of the National Defense Authorization Act for Fiscal Year 2003 (Pub. L. 107-314, 116 Stat. 2458).

This MOU specifically pertains to the following categories of DoD activities:

(1) Natural resource management activities, including, but not limited to, habitat management, erosion control, forestry activities, agricultural outleasing, conservation law enforcement, invasive weed management, and prescribed burning;

(2) Installation support functions, including but not limited to, the maintenance, construction or operation of administrative offices, military exchanges, road construction, commissaries, water treatment facilities, storage facilities, schools, housing, motor pools, non-tactical equipment, laundries, morale, welfare, and recreation activities, shops, landscaping, and mess halls;

(3) Operation of industrial activities;

(4) Construction or demolition of facilities relating to these routine operations; and

(5) Hazardous waste cleanup.

This MOU identifies specific activities where cooperation between the Parties will contribute substantially to the conservation of migratory birds and their habitats. This MOU does not authorize the take of migratory birds.

B. Authorities

The Parties' responsibilities under the MOU are authorized by provisions of the following laws:

Alaska National Interest Lands Conservation Act of 1980 (16 U.S.C. 410hh-3233).

Bald and Golden Eagle Protection Act of 1940 (16 U.S.C. 668-668d).

Endangered Species Act of 1973 (16 U.S.C. 1531 et seq.).

Fish and Wildlife Act of 1956 (16 U.S.C. 742 et seq.).

Fish and Wildlife Conservation Act of 1980 (16 U.S.C. 2901-2911).

Fish and Wildlife Coordination Act (16 U.S.C. 661-667).

Migratory Bird Conservation Act (16 U.S.C. 715-715d, 715e, 715f-715r).

Migratory Bird Treaty Act (16 U.S.C. 703-711).

National Environmental Policy Act of 1969 (42 U.S.C. 4321-4347).

Sikes Act Improvement Act of 1997 (16 U.S.C. 670a-670o).

Agreements to limit encroachments and other constraints on military training, testing, and operations (10 U.S.C. 2684a)

C. Background

The Parties have a common interest in the conservation and management of America's natural resources. The Parties agree that migratory birds are important components of biological diversity and that the conservation of migratory birds will both help sustain ecological systems and help meet the public demand for conservation education and outdoor recreation, such as wildlife viewing and hunting opportunities. The Parties also agree that it is important to: (1) Focus on bird populations; (2) focus on habitat restoration and enhancement where actions can benefit specific ecosystems and migratory birds dependent upon them; and (3) recognize that actions taken to benefit some migratory bird populations may adversely affect other migratory bird populations.

The DoD mission is to provide for the Nation's defense. DoD's conservation program works to ensure continued access to land, air, and water resources for realistic military training and testing while ensuring that the natural and cultural resources entrusted to DoD's care are sustained in a healthy condition.

The DoD is an active participant in international bird conservation partnerships including Partners in Flight (PIF) and the North American Bird Conservation Initiative (NABCI). Military lands frequently provide some of the best remaining habitat for migratory bird species of concern, and DoD plans to continue its leadership role in bird conservation partnerships.

Through the PIF initiative, DoD works in partnership with numerous Federal and State agencies and nongovernmental organizations for the conservation of migratory and resident birds and to enhance migratory bird survival. Through DoD PIF, a list of species of concern (see Definitions) has been developed for each Bird Conservation Region where DoD facilities occur, thus improving DoD's ability to evaluate any migratory bird conservation concerns on respective DoD lands.

Integrated Natural Resources Management Plans (INRMPs) offer a coordinated approach for incorporating habitat conservation efforts into installation management. INRMPs are a significant source of baseline conservation information and conservation initiatives used when preparing National Environmental Policy Act (NEPA) documents for all DoD management activities. This linkage helps to ensure that appropriate conservation and mitigation measures are identified in NEPA documents and committed to, when appropriate, in final decision documents.

The DoD PIF program provides a framework for incorporating landbird, shorebird and waterbird habitat management efforts into INRMPs. DoD's strategy focuses on inventorying and long-term monitoring to determine changes in migratory bird populations on DoD installations. Effective on-the-ground management may then be applied to those areas identified as having the highest conservation value. DoD's PIF goal is to support the military's training and testing mission while being a vital and supportive partner in regional, national, and international bird conservation initiatives. DoD strives to implement cooperative projects and programs on military lands to benefit the health and well-being of birds and their habitats, whenever possible.

The Department of Defense implements bird inventories and monitoring programs in numerous ways including Monitoring Avian Productivity and Survivorship (MAPS) and Next Generation Radar (NEXRAD) for studying bird movements in the atmosphere. DoD also maintains an integrated pest management (IPM) program designed to reduce the use of pesticides to the minimum necessary.

The mission of the FWS is to work with others to conserve, protect, manage, and enhance fish, wildlife, plants, and their habitats for the continuing benefit of the American people. The FWS is legally mandated to implement the provisions of the Migratory Bird Treaty Act (MBTA), which include responsibilities for population management (e.g., monitoring), habitat protection (e.g., acquisition, enhancement, and modification), international coordination, and regulation development and enforcement. The FWS also promotes migratory bird conservation through its coordination and consultation efforts with other entities.

Many FWS programs are involved in bird conservation activities, including:

1. The Division of Migratory Bird Management and Regional Migratory Birds and Habitat Programs serve as focal points in the United States for policy development and strategic planning, developing and implementing monitoring and management initiatives that help maintain healthy populations of migratory birds and their habitat, and providing continued opportunities for citizens to enjoy bird-related recreation.

2. The Division of Bird Habitat Conservation is instrumental in supporting habitat conservation partnerships through the administration of bird conservation grant programs and development of Joint Ventures that serve as major vehicles for implementing the various bird conservation plans across the country.

3. Ecological Services Field Offices across the country serve as the primary contacts for environmental reviews that include, when requested, projects developed by local military installations and DoD regional offices involving migratory bird issues. The Field Offices coordinate with the Regional Migratory Bird Offices, as necessary, during these reviews regarding permits and overall migratory bird conservation coordination for DoD activities.

4. The Office of Law Enforcement is the principal FWS program that enforces the legal provisions of the MBTA.

The Parties agree this MOU shall be implemented to the extent permitted by law and in harmony with agency missions, subject to the availability of appropriations and budgetary limits.

D. Responsibilities

1. Each Party shall:

a. Emphasize an interdisciplinary, collaborative approach to migratory bird conservation in cooperation with other governments, State and Federal agencies, and non-Federal partners within the geographic framework of the NABCI Bird Conservation Regions

b. Strive to protect, restore, enhance, and manage habitat of migratory birds, and prevent or minimize the loss or degradation of habitats on DoD-managed lands, by:

(1) Identifying and avoiding management actions that have the potential to adversely affect migratory bird populations, including breeding, migration, or wintering habitats; and by developing and implementing, as appropriate, conservation measures that would avoid or minimize the take of migratory birds or enhance the quality of the habitat used by migratory birds.;

(2) Working with partners to identify, conserve, and manage Important Bird Areas, Western Hemisphere Shorebird Reserve Network sites, and other significant bird conservation sites that occur on DoD-managed lands;

(3) Preventing or abating the pollution or detrimental alteration of the habitats used by migratory birds;

(4) Developing and integrating information on migratory birds and their habitats into outreach and education materials and activities; and

(5) Controlling the introduction, establishment, and spread of non-native plants or animals that may be harmful to migratory bird populations, as required by Executive Order 13112 on Invasive Species.

c. Work with willing landowners to prevent or minimize the loss or degradation of migratory bird habitats on lands adjacent or near military installation boundaries. This cooperative conservation may include:

(1) Participating in efforts to identify, protect, and conserve important migratory bird habitats or other significant bird conservation sites and ecological conditions that occur in landscapes or watersheds that may be affected by activities on DoD lands;

(2) Developing and integrating information on migratory bird resources found on DoD lands into other partners' outreach and education materials and activities; and

(3) Using available authorities to enter into agreements with other Federal agencies, States, other governmental entities, and private conservation organizations to conserve and enhance habitat in a compatible manner so military operations are not restricted.

d. Promote collaborative projects such as:

(1) Developing or using existing inventory and monitoring programs, at appropriate scales, with national or regional standardized protocols, to assess the status and trends of bird populations and habitats, including migrating, breeding, and wintering birds;

(2) Designing management studies and research projects using national or regional standardized protocols and programs, such as MAPS to identify the habitat conditions needed by applicable species of concern, to understand interrelationships of co-existing species, and to evaluate the effects of management activities on habitats and populations of migratory birds;

(3) Sharing inventory, monitoring, research, and study data for breeding, migrating, and wintering bird populations and habitats in a timely fashion with national data repositories such as Breeding Bird Research and Monitoring Database (BBIRD), National Point Count Database, National Biological Information Infrastructure, and MAPS;

(4) Working in conjunction with each other and other Federal and State agencies to develop reasonable and effective conservation measures for actions that affect migratory birds and their natural habitats;

(5) Participating in or promoting the implementation of existing regional or national inventory and monitoring programs such as Breeding Bird Survey (BBS), BBIRD, Christmas Bird Counts, bird atlas projects, or game bird surveys (e.g., mid-winter waterfowl surveys) on DoD lands where practicable and feasible.

(6) Using existing partnerships and exploring opportunities for expanding and creating new partnerships to facilitate combined funding for inventory, monitoring, management studies, and research.

e. Provide training opportunities to DoD natural resources personnel on migratory bird issues, to include bird population and habitat inventorying, monitoring methods, and management practices that avert detrimental effects and promote beneficial approaches to migratory bird conservation.

f. Participate in the Interagency Council for the Conservation of Migratory Birds to evaluate implementation of this MOU.

g. Promote migratory bird conservation internationally, as it relates to wintering, breeding and migration habitats of birds that breed on DoD lands.

h. Promote and undertake ecologically sound actions to curb the introduction in the wild of exotic or invasive species harmful to migratory birds.

2. The Department of Defense shall:

a. Follow all migratory bird permitting requirements for non-military readiness activities that are subject to 50 CFR Parts 21.22 (banding or marking), 21.23 (scientific collecting), 21.26 (special Canada goose permit), 21.27 (special purposes), or 21.41 (depredation). No permit is required to take birds in accordance with Parts 21.43-21.47 (depredation orders).

b. Encourage incorporation of comprehensive migratory bird management objectives in the preparation of DoD planning documents, including Integrated Natural Resource Management Plans, Pest Management Plans, Installation Master Plans, NEPA analyses, and non-military readiness elements of Bird Aircraft Strike Hazard documents. Comprehensive planning efforts for migratory birds include PIF Bird Conservation Plans, the North American Waterfowl Management Plan, U.S. Shorebird Conservation Plan, and North American Waterbird Conservation Plan and associated regional plans where available.

c. Incorporate conservation measures addressed in Regional or State Bird Conservation Plans in INRMPs.

d. Consistent with imperatives of safety and security, allow the FWS and other partners reasonable access to military lands for conducting sampling or survey programs such as MAPS, BBS, BBIRD, International Shorebird Survey, and breeding bird atlases.

e. Prior to starting any activity that is likely to affect populations of migratory birds:

(1) Identify the migratory bird species likely to occur in the area of the proposed action and determine if any species of concern could be affected by the activity;

(2) Assess and document, through the project planning process, using NEPA when applicable, the effect of the proposed action on species of concern. Use best available demographic, population, or habitat association data in the assessment of effects upon species of concern;

(3) Engage in early planning and scoping with the FWS relative to potential impacts of a proposed action, to proactively address migratory bird conservation, and to initiate appropriate actions to avoid or minimize the take of migratory birds.

f. Manage military lands and non-military readiness activities in a manner that supports migratory bird conservation, giving consideration to the following factors:

(1) Habitat protection, restoration, and enhancement. Military lands contain many important habitats for migratory birds. Some unique, sensitive, endangered and/or declining habitat types that may require special management attention include:

(a) Grasslands. Many native grassland communities require intensive management to maintain and restore vigor and species diversity and to provide habitat for migratory birds and other wildlife dependent on native grasslands. Grassland management and restoration tools include controlled burning, mowing, grazing, native species planting, and exotic plant removal. Many grasslands have evolved with a natural fire regime, and the management activities often emulate this fire regime.

(b) Riparian and wetland habitats. Military lands contain riparian and wetland habitats that may be critical for migratory birds. DoD will strive to prevent the destruction or degradation of wetlands and riparian vegetation, and also restore those habitats, when feasible, where they have been degraded.

(c) Coastal beach, salt marsh, and dune habitats. Military lands support some of the best remaining undisturbed coastal habitats. DoD will strive to protect, restore and prevent the destruction of coastal and island habitats that are important to breeding, migrating and wintering shorebirds, salt marsh land birds and colonial water birds.

(d) Longleaf pine ecosystem. Some of the best remaining examples of the longleaf pine ecosystem occur on military lands. Such habitats benefit from prescribed fire and other management measures which DoD regularly implements on thousands of acres in the Southeast. The DoD manages and will continue to manage this ecosystem to benefit and promote migratory bird conservation.

(2) Fire and fuels management practices. Fire plays an important role in shaping plant and animal communities and is a valuable tool in restoring habitats altered by decades of fire suppression. Fire management may include fire suppression, but also involves fire prevention and fuels treatment, including prescribed burning and monitoring, to protect communities and provide for healthy ecosystems. Fire management planning efforts will consider the effects of fire management strategies on the conservation of migratory bird populations.

(3) Invasive Species and Aquatic Nuisance Species management practices. Invasive Species and Aquatic Nuisance Species are a threat to native habitats and wildlife species throughout the United States, including military lands. Efforts to control/contain these species must take into account both the impacts from invasive species and the effects of the control efforts on migratory bird populations. Invasive Species and Aquatic Nuisance Species that can threaten migratory birds and their habitats include, but are not limited to, exotic grasses, trees and weeds, terrestrial and aquatic insects and organisms, non-native birds, and stray and feral cats.

(4) Communications towers, utilities and energy development. Increased communications demands, changes in technology and the development of alternative energy sources result in impacts on migratory birds. DoD will review wind turbine and powerline guidelines published by FWS and the Avian Power Line Interaction Committee, respectively, and consult with FWS as needed, in considering potential effects on migratory birds of proposals for locating communications towers, powerlines or wind turbines on military lands. Construction of new utility and energy systems and associated infrastructure should be designed to avoid and minimize impacts on migratory bird populations. Existing utilities may also be considered for retrofitting to reduce impacts.

(5) Recreation and public use. The demand for outdoor recreational opportunities on public lands is increasing. Impacts on migratory birds may occur both through direct and indirect disturbances by visitors and through agency activities associated with providing recreational opportunities to visitors and installation personnel and morale facilities (e.g., facilities construction). DoD provides access to military lands for recreation and other public use, such as Watchable Wildlife and bird watching, where such access does not compromise security and safety concerns or impact migratory birds, other species, or their habitats.

Many conservation measures have been developed to benefit a variety of migratory bird species and their associated habitats. Some of these conservation measures may be directly applicable to DoD non-military readiness related activities; however, the appropriateness and practicality of implementing any specific conservation measure may have to be determined on a case-by-case basis. The FWS will work cooperatively with DoD in providing existing conservation measures and developing new ones as needed. Examples of some conservation measures may be found at http://www.partnersinflight.org/pubs/BMPs.htm for landbird species.

g. Develop and implement new and/or existing inventory and monitoring programs, at appropriate scales, using national standardized protocols, to evaluate the effectiveness of conservation measures to minimize or mitigate take of migratory birds, with emphasis on those actions that have the potential to significantly impact species of concern.

h. Advise the public of the availability of this MOU through a notice published in the Federal Register.

i. In accordance with DoD INRMP guidance, promote timely and effective review of INRMPs with respect to migratory bird issues with the FWS and respective state agencies. During the INRMP review process, evaluate and coordinate with FWS on any potential revisions to migratory bird conservation measures taken to avoid or minimize take of migratory birds.

3. The Fish and Wildlife Service shall:

a. Work with DoD by providing recommendations to minimize adverse effects upon migratory birds from DoD actions.

b. Through the Division of Migratory Bird Management, maintain a Web page on permits that provides links to all offices responsible for issuing permits and permit application forms for take of migratory birds.

c. Provide essential background information to the DoD when requested to ensure sound management decisions. This may include migratory bird distributions, status, key habitats, conservation guidelines, and risk factors within each BCR. This includes updating the FWS publication of Birds of Conservation Concern at regular intervals so it can be reliably referenced.

d. Work to identify special migratory bird habitats (i.e., migration corridors, stop-over habitats, ecological conditions important in nesting habitats) to aid in collaborative planning.

e. Through the Ecological Service Field Office, provide to DoD, upon request, technical assistance on migratory bird species and their habitats.

f. In accordance with FWS Guidelines for Coordination with DoD and Implementation of the 1997 Sikes Act (2005), work cooperatively with DoD in the development, review and revision of INRMPs.

g. Review and comment on NEPA documents and other planning documents forwarded by military installations.

E. It Is Mutually Agreed and Understood That

1. This MOU will not change or alter requirements associated with the MBTA, Endangered Species Act, NEPA, Sikes Act or other statutes or legal authority.

2. The responsibilities established by this MOU may be incorporated into existing DoD actions; however, DoD may not be able to implement some responsibilities identified in the MOU until DoD has successfully included them in formal planning processes. This MOU is intended to be implemented when new actions are initiated as well as during the initiation of new, or revisions to, INRMPs, Pest Management Plans, and non-military readiness elements of Bird Aircraft Strike Hazard plans. It does not apply to ongoing DoD actions for which a NEPA decision document was finalized prior to, or within 180 days of the date this MOU is signed.

3. This MOU in no way restricts either Party from participating in similar activities with other public or private agencies, governments, organizations, or individuals.

4. An elevation process to resolve any dispute between the Parties regarding a particular practice or activity is in place and consists of first attempting to resolve the dispute with the DoD military installation and the responsible Ecological Services Field Office. If there is no resolution at this level, either Party may elevate the issue to the appropriate officials at the applicable Military Service's Chain of Command and FWS Regional Offices. In the event that there is no resolution by these offices, the dispute may be elevated by either Party to the headquarters office of each agency.

5. This MOU is neither a fiscal nor a funds obligation document. Any endeavor involving reimbursement, contribution of funds, or transfer of anything of value between the Parties will be handled in accordance with applicable laws, regulations, and procedures, including those for government procurement and printing. Such endeavors will be outlined in separate agreements that shall be made in writing by representatives of the Parties and shall be independently authorized by appropriate statutory authority.

6. The Parties shall schedule periodic meetings to review progress and identify opportunities for advancing the principles of this MOU.

7. This MOU is intended to improve the internal management of the executive branch and does not create any right or benefit, substantive or procedural, separately enforceable at law or equity by a party against the United States, its agencies or instrumentalities, its officers or employees, or any other person.

8. Modifications to the scope of this MOU shall be made by mutual consent of the Parties, through issuance of a written modification, signed and dated by both Parties, prior to any changes.

9. Either Party may terminate this instrument, in whole or in part, at any time before the date of expiration by providing the other Party with a written statement to that effect.

The principal contacts for this instrument are as follows:

Brian Millsap, Chief, Division of Migratory Bird Management, U.S. Fish and Wildlife Service, 4401 N. Fairfax Drive, MS4107, Arlington, VA 22203.

L. Peter Boice, Conservation Team, Leader, Office of the Secretary of Defense, 1225 S. Clark St., Suite 1500, Arlington, VA 22202-4336.

This MOU is executed as of the last date signed below and expires no later than five (5) years thereafter, at which time it is subject to review and renewal, or expiration.

F. Definitions

Action—a program, activity, project, official policy, rule, regulation or formal plan directly carried out by DoD, but not a military readiness activity.

Breeding Biology Research and Monitoring Database (BBIRD)—national, cooperative program that uses standardized field methodologies for studies of nesting success and habitat requirements of breeding birds (http://pica.wru.umt.edu/BBIRD/).

Breeding Bird Survey (BBS)—a standardized international survey that provides information on population trends of breeding birds, through volunteer observations located along randomly selected roadside routes in the United States, Canada and Mexico (http://www.mbr-pwrc.usgs.gov/bbs/bbs.html).

Bird Conservation Region—a geographic unit used to facilitate bird conservation actions under the North American Bird Conservation Initiative (http://www.manomet.org/USSCP/bcrmaps.html).

Birds of Conservation Concern—published by the FWS Division of Migratory Bird Management, refers to the list of migratory and non-migratory birds of the United States and its territories that are of conservation concern. The current version of the list Birds of Conservation Concern 2002 is available at (http://migratorybirds.fws.gov/reports/bcc2002.pdf).

Comprehensive Planning Efforts for Migratory Birds—includes Partners in Flight, North American Waterfowl Management Plan, U.S. Shorebird Conservation Plan, Western Hemisphere Shorebird Reserve Network, North American Waterbird Conservation Plan, and other planning efforts integrated through the North American Bird Conservation Initiative.

Conservation Measure—an action undertaken to improve the conservation status of one or more species of migratory birds. Examples include surveys and inventories, monitoring, status assessments, land acquisition or protection, habitat restoration, population manipulation, research, and outreach.

Conservation Planning—strategic and tactical planning of agency activities for the long-term conservation of migratory birds and their habitats.

Council for the Conservation of Migratory Birds—an interagency council established by the Secretary of the Interior to oversee the implementation of Executive Order 13186.

Ecological Condition—the composition, structure, and processes of ecosystems over time and space. This includes the diversity of plant and animal communities, the productive capacity of ecological systems and species diversity, ecosystem diversity, disturbance processes, soil productivity, water quality and quantity, and air quality. Often referred to in terms of ecosystem health, which is the degree to which ecological factors and their interactions are reasonably complete and functioning for continued resilience, productivity, and renewal of the ecosystem.

Effect (adverse or beneficial)—“effects” and “impacts,” as used in this MOU are synonymous. Effects may be direct, indirect, or cumulative, and refer to effects from management actions or categories of management actions on migratory bird populations, habitats, ecological conditions and/or significant bird conservation sites.

Important Bird Areas (IBAs)—a network of sites that provide essential habitat for the long-term conservation of birds. In the United States, the IBA network is administered by the American Bird Conservancy and the National Audubon Society. (http://www.audubon.org/nird/iba/)

Integrated Natural Resources Management Plan (INRMP)—an integrated plan based, to the maximum extent practicable, on ecosystem management that shows the interrelationships of individual components of natural resources management (e.g., fish and wildlife, forestry, land management, outdoor recreation) to military mission requirements and other land use activities affecting an installation's natural resources. INRMPs are required for all DoD installations with significant natural resources, pursuant to the Sikes Act Improvement Act.

International Shorebird Survey—a monitoring program started in 1974 to survey shorebirds (sandpipers, plovers, etc.) across the Western Hemisphere. (http://www.manomet.org/programs/shorebirds).

Management Action—an activity by a government agency that could cause a positive or negative impact on migratory bird populations or habitats. Conservation measures to mitigate potential negative effects of actions may be required.

Migratory Bird—any bird listed in 50 CFR 10.13, Code of Federal Regulations.

Military Readiness Activity—all training and operations of the Armed Forces that relate to combat, including but not limited to the adequate and realistic testing of military equipment, vehicles, weapons and sensors for proper operation and suitability for combat use.

Monitoring Avian Productivity and Survivorship (MAPS)—a program that uses the banding of birds during the breeding season to track the changes and patterns in the number of young produced and the survivorship of adults and young (http://www.birdpop.org/maps.htm).

National Environmental Policy Act (NEPA)—a Federal statute that requires Federal agencies to prepare a detailed analysis of the environmental impacts of a proposed action and alternatives, and to include public involvement in the decision making process for major Federal actions significantly affecting the quality of the human environment 42 U.S.C. 4321, et seq.

North American Bird Conservation Initiative (NABCI)—an initiative to align the avian conservation community to implement bird conservation through regionally-based, biologically driven, landscape-oriented partnerships across the North American continent. NABCI includes Federal agencies of Canada, Mexico and the United States, as well as most landbird, shorebird, waterbird, and waterfowl conservation initiatives (http://www.nabci-us.org).

North American Waterbird Conservation Plan—a partnership of Federal and State government agencies, non-governmental organizations, and private interests focusing on the conservation of waterbirds, primarily including marshbirds and inland, coastal, and pelagic colonial waterbirds (www.nacwcp.org/pubs/). The vision of the partnership is that the distribution, diversity and abundance of populations and breeding, migratory, and nonbreeding waterbirds are sustained throughout the lands and waters of North America, Central America, and the Caribbean.

North American Waterfowl Management Plan—a partnership of Federal and State agencies, non-governmental organizations, and private interests focusing on the restoration of waterfowl populations through habitat restoration, protection, and enhancement (http://birdhabitat.fws.gov/NAWMP/nawmphp.htm).

Partners in Flight (PIF)—a cooperative partnership program of more than 300 partners including Federal and State government agencies, non-governmental organizations, conservation groups, foundations, universities and industry focusing on the conservation of landbirds. DoD was an original signatory to the PIF Federal Agencies' MOA. (http://www.partnersinflight.org and http://www.dodpif.org).

Species of Concern—refers to those species listed in the periodic report Birds of Conservation Concern; priority migratory bird species documented in the comprehensive bird conservation plans (North American Waterbird Conservation Plan, U.S. Shorebird Conservation Plan, Partners in Flight Bird Conservation Plans); species or populations of waterfowl identified as high, or moderately high, continental priority in the North American Waterfowl Management Plan; listed threatened and endangered bird species in 50 CFR 17.11; and MBTA listed game birds below desired population sizes.

Take—as defined in 50 CFR 10.12, to include pursue, hunt, shoot, wound, kill, trap, capture, collect, or to attempt to pursue, hunt, shoot, wound, kill, trap, capture, or collect.

U.S. Shorebird Conservation Plan—an effort undertaken by a partnership of Federal and State government agencies, as well as non-governmental and private organizations to ensure that stable and self-sustaining populations of all shorebird species are restored and protected (http://www.fws.gov/shorebird).

The Parties hereto have executed this agreement as of the date shown below.

Signed: July 7, 2006.

H. Dale Hall,

Director, U.S. Fish and Wildlife Service.

Signed: July 31, 2006.

Alex Albert Beehler,

Assistant Deputy Under Secretary of Defense (Environment, Safety and Occupational Health), U.S. Department of Defense.

[FR Doc. E6-14352 Filed 8-29-06; 8:45 am]

BILLING CODE 5001-06-P